DEPARTMENT OF AGRICULTURE

Office of the Secretary

Request for Public Comments To Be Used in Developing USDA Recommendations for the 2007 Farm Bill

AGENCY: Office of the Secretary, USDA.

ACTION: Notice of meetings and request for comments.

SUMMARY: This notice announces a series of public forums that senior officials of the United States Department of Agriculture (USDA) will hold to obtain public input for the development of the 2007 Farm Bill. The 2002 Farm Bill, officially entitled the Farm Security and Rural Investment Act of 2002 (the 2002 Act; Publ. L. 107-171), authorizes many of the programs operated by USDA such as the farm price and income support programs and expires with the 2007 crop year. Many other key programs specified in the 2002 Act expire at the end of fiscal year 2007. New legislation will need to be enacted prior to the expiration of the 2002 Act.

USDA intends to develop recommendations for the new farm bill and believes that public input is essential to the process by which these recommendations will be developed. This process requires an assessment of the performance of current programs operated under the 2002 Act as well as of possible alternative programs for the next farm bill.

The public forums will be held at various locations in the United States during 2005. The dates, locations, and times of the forums will be announced by USDA press release (available at http://www.usda.gov). The public will be invited to attend the forums and to present oral comments.

The primary topics addressed at the forums will reflect various concerns affecting rural America such as commodity, conservation, and rural economic development issues. However, some forums will be dedicated to other important programs authorized by the farm bill such as food assistance, research, and education programs. Topics for these discussions will be announced via USDA press release.

In addition, this notice provides the public the opportunity to comment in writing on key issues that USDA expects to address in the development of its recommendations. USDA will review the public comments received, including any analyses, reports, studies, and other material submitted with the comments, that address the questions specified below.

DATES: Comments must be received by December 30, 2005.

ADDRESSES: We invite interested persons to submit comments on this notice. Comments will be accepted at public forums and may also be submitted electronically (preferred) or by postal mail. Comments may be submitted electronically via the Internet at the USDA home page (http://www.usda.gov) by selected “Farm Bill Forums.” Comments may also be submitted by any of the following methods:

• E-mail: Send comments to: FarmBill@usda.gov

• Mail: Send comments to: Secretary of Agriculture Mike Johanns, Farm Bill, 1400 Independence Avenue, SW., Washington, DC 20250-3355.

• Hand delivery or courier: Deliver comments to Room 116A at the above address.

All comments, including names and addresses, provided by respondents are a matter of public record. Comments may be inspected at the Department of Agriculture. To arrange for inspection, please contact the Office of the Executive Secretariat, Room 116A, Jamie L. Whitten Federal Building, 1400 Independence Avenue, SW., Washington, DC 20250-3355.

FOR FURTHER INFORMATION CONTACT: By mail: USDA/OES, 1400 Independence Avenue, SW., Washington, DC 20250-3355. By telephone: USDA's Office of Communications at (202) 720-9002. By e-mail: FarmBill@usda.gov.

SUPPLEMENTARY INFORMATION:

Key Issues for Comment

USDA is seeking public comments on the following farm policy considerations:

1. The competitiveness of U.S. agriculture in global and domestic markets.

As bilateral, regional, and multilateral trade negotiations continue to result in reduced barriers to international trade, exports and imports of agricultural products are expected to become increasingly important factors in U.S. and global agriculture. Obtaining ever-greater access to growing foreign markets and being increasingly competitive in these and in domestic markets is essential for farm economic growth. One key factor in our ability to be competitive depends on the types of products demanded around the world in the next 10 to 20 years and our ability to produce products that meet this world demand.

How should farm policy be designed to maximize U.S. competitiveness and our country's ability to compete effectively in global markets?

2. The challenges facing new farmers and ranchers as they enter agriculture.

Some observers note that while farm policy has served agriculture and the country well in the past there are “unintended consequences” that should be addressed, such as the capitalization of program benefits into land prices. These higher land prices are cited as a barrier to entry into agriculture for new farmers; a factor in reduced profit for existing farmers; and a cause of weakened competitive position on the part of U.S. farmers compared with farmers in countries with lower-priced land.

How should farm policy address any unintended consequences and ensure that such consequences do not discourage new farmers and the next generation of farmers from entering production agriculture?

3. The appropriateness and effectiveness of the distribution of farm program benefits.

A longstanding goal of farm policy has been to enhance and stabilize farm prices and incomes. Current farm programs, including crop insurance, distribute assistance based on past and current production levels. Some argue that the current farm support system encourages increases in farm size and results in the disproportionate distribution of program benefits to large farms. It has also been suggested that program incentives lead to increased production and lower market prices.

How should farm policy be designed to effectively and fairly distribute assistance to producers?

4. The achievement of conservation and environmental goals.

While producing food and fiber are essential functions, agriculture also plays a major role in natural resource stewardship. Some have suggested that future farm policy might be anchored around the provision of tangible benefits such as cleaner water and air. Such an approach may be consistent with future World Trade Organization obligations on domestic support to agriculture, while also expanding farm programs to extend more broadly across agriculture, including private forest lands.

How can farm policy best achieve conservation and environmental goals?

5. The enhancement of rural economic growth.

Farming and rural America once were almost synonomous. Over the years, the demographic and economic characteristics of rural areas have changed, as has farming's role in the rural economy. This raises the issue of whether more Government attention should be focused on investing in the infrastructure in rural America (for example, investing in new technologies).

How can Federal rural and farm programs provide effective assistance in rural areas?

6. Opportunities to expand agricultural products, markets, and research.

Changes in farm and market structure over past decades have led to suggestions that farm policy could be more flexible by enabling greater support for a broader range of activities helpful to agriculture market expansion. Examples are: Attention to product quality and new attributes; organic and specialty crops; value-added products, including renewable energy and bioproducts and new uses for farm products generally; expanded basic and applied research; domestic and foreign market development; and similar activities.

How should these agricultural product, marketing, and research-related issues be addressed in the next farm bill?

This notice is being issued to obtain public comment regarding the next farm bill. There are no regulatory findings associated with this notice.

Signed in Washington, DC, on June 8, 2005.
Mike Johanns,
Secretary, U.S. Department of Agriculture.

[FR Doc. 05-11787 Filed 6-16-05; 8:45 am]

BILLING CODE 3410-01-M